FEDERAL COMMUNICATIONS COMMISSION

47 CFR Part 25

[IB Docket No. 02-10, DA 02-806]

Procedures To Govern the Use of Earth Stations on Board Vessels in Bands Shared With Terrestrial Fixed Service

AGENCY: Federal Communications Commission.

ACTION: Proposed rule; extension of comment period.

SUMMARY: On March 22, 2002, the Federal Communications Commission published a proposed rule document on the variety of issues related to the authorization of satellite earth stations on board vehicles (ESVs). In response to a request for an extension of time, on April 9, 2002, the Commission released an order granting an extension of time for filing comments and reply comments in this proceeding.

DATES: Comments were due on or before May 10, 2002. Reply comments were due on or before June 10, 2002.

ADDRESSES: All comments and reply comments should be addressed to: Office of the Secretary, Federal Communications Commission, Washington, DC 20554. All comments and reply comments will be available for public inspection during regular business hours in the FCC Reference Information Center, Room CY-A257, 445 Twelfth Street, SW., Washington, DC 20554.

FOR FURTHER INFORMATION CONTACT: Peggy Reitzel, Policy Division, International Bureau, (202) 418-1499.

SUPPLEMENTARY INFORMATION: 1. On April 5, 2002, Maritime Telecommunications Network, Inc. (MTN) filed a motion to extend the comment and reply comment filing deadlines in this proceeding. (see Notice of Inquiry in the Matter of Procedures to Govern the Use of Earth Stations on Board Vessels in Bands Shared with Terrestrial Fixed Service, IB Docket No. 02-10, 67 FR 13399, March 22, 2002). MTN contends that the current pleading schedule coincides with the upcoming meeting of the ITU-R Working Group 4-9S in Geneva, at which studies regarding the regulatory, technical and operational aspects of ESVs are expected to be conducted. Because many of these same technical and operational issues are under consideration in this proceeding, MTN asserts that commenters would benefit from additional time to review the results of the ITU-R meeting prior to the filing of comments.

2. Although we do not routinely grant extensions of time, see 47 CFR 1.46(a), we believe that extending the pleading cycle in this case will serve the public interest. In the Notice of Inquiry, the Commission indicated that it would note further international developments concerning the ESV service as it considers issues that could arise in the potential licensing of ESVs on a domestic level. Therefore, it is appropriate to extend the comment and reply comment deadlines by 30 days to permit MTN and other members of the public to incorporate the results of the ITU-R meeting in their comments and reply comments so as to help the Commission address the complex issues raised in this proceeding.

3. Pursuant to § 1.46 of the Commission's Rules, 47 CFR 1.46, the request of Maritime Telecommunications Network Inc. is granted.

4. The deadline for filing comments in this proceeding was extended to May 10, 2002.

5. The deadline for filing reply comments in this proceeding was extended to June 10, 2002.

Federal Communications Commission.
James Ball,
Chief, Policy Division, International Bureau.

[FR Doc. 02-17994 Filed 7-16-02; 8:45 am]

BILLING CODE 6712-01-U